GENERAL SERVICES ADMINISTRATION

[Notice-BB-2013-1; Docket No. 2013-0002; Sequence No. 41]

Notification of GSA Strategic Plan

AGENCY: Office of the Chief Financial Officer, U.S. General Services Administration (GSA).

ACTION: Notice of Availability; request for public comments.

SUMMARY: GSA is announcing the availability of the Draft FY 2014-2018 GSA Strategic Plan for public review and comment, as part of the periodic update required by the Government Performance and Results Act (GPRA) Modernization Act of 2010. The agency anticipates the final Strategic Plan will be submitted to Congress with the submission of the FY 2015 President's Budget. The Strategic Plan provides the Agency's long-term direction and strategies for providing real estate, acquisition, and technology services to the Federal government. For this notice, the GSA is seeking comment from individual citizens, states, local government, industry, non-governmental organizations, and all other interested parties. The draft GSA FY 2014-2018 Strategic Plan can be accessed at http://www.gsa.gov/portal/content/183023.

DATES: Submit comments on or before January 14, 2014.

ADDRESSES: Submit comments via Electronic mail to perform@gsa.gov; or via the U.S. Postal Service to: ATTN: Mr. Harold Hendrick, Strategic Planning and Performance Management Division, Office of the Chief Financial Officer, 1800 F Street NW., Washington, DC 20405.

FOR FURTHER INFORMATION CONTACT: Mr. Harold Hendrick, Strategic Planning and Performance Management Division, Office of the Chief Financial Officer at perform@gsa.gov or telephone 202-208-1752.

SUPPLEMENTARY INFORMATION: The GPRA Modernization Act holds federal agencies accountable for using resources wisely and achieving program results. Specifically, the GPRA Modernization Act requires agencies to develop: Strategic Plans, which include a mission statement, set out long-term goals, objectives, and strategic measures, and describe strategies to achieve them over a four-year time horizon; Annual Performance Plans, which provide annual performance measures and activities toward the long-term Strategic Plan; and Annual Performance Reports, which evaluate an agency's success in achieving the annual performance measures.

The Draft FY 2014-2018 GSA Strategic Plan defines GSA's mission, strategic goals, strategic and management objectives, strategies, and priority goals. The Strategic Plan links objectives to GSA programs and presents the key performance indicators by which GSA will hold itself accountable.

Dated: December 20, 2013.
Michael Casella,
Chief Financial Officer, Office of the Chief Financial Officer.

[FR Doc. 2013-31168 Filed 12-27-13; 8:45 am]

BILLING CODE 6820-34-P